DEPARTMENT OF THE INTERIOR

Fish and Wildlife Service

Receipt of Applications for Endangered Species Permits

AGENCY: Fish and Wildlife Service, Interior.

ACTION: Notice.

SUMMARY: The public is invited to comment on the following applications to conduct certain activities with endangered species. We provide this notice pursuant to section 10(c) of the Endangered Species Act of 1973, as amended (16 U.S.C. 1531 et seq.).

DATES: We must receive written data or comments on these applications at the address given below, by September 26, 2005.

ADDRESSES: Documents and other information submitted with these applications are available for review, subject to the requirements of the Privacy Act and Freedom of Information Act, by any party who submits a written request for a copy of such documents to the following office within 30 days of the date of publication of this notice: U.S. Fish and Wildlife Service, 1875 Century Boulevard, Suite 200, Atlanta, Georgia 30345 (Attn: Victoria Davis, Permit Biologist).

FOR FURTHER INFORMATION CONTACT: Victoria Davis, telephone (404) 679-4176; facsimile (404) 679-7081.

SUPPLEMENTARY INFORMATION: The public is invited to comment on the following applications for permits to conduct certain activities with endangered and threatened species. If you wish to comment, you may submit comments by any one of the following methods. You may mail comments to the Services Regional Office (see ADDRESSES section) or via electronic mail (e-mail) to “victoria_davis@fws.gov.” Please submit electronic comments as an ASCII file avoiding the use of special characters and any form of encryption. Please also include your name and return address in your e-mail message. If you do not receive a confirmation from the Service that we have received your e-mail message, contact us directly at the telephone number listed above (see FOR FURTHER INFORMATION CONTACT section). Finally, you may hand deliver comments to the Service office listed above (see ADDRESSES section).

Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. However, we will not consider anonymous comments. We will make all submissions from organizations or businesses, and from individuals identifying themselves as representatives or officials of organizations or businesses, available for public inspection in their entirety.

Applicant: Stephanie Ann Clark, University of Alabama, Tuscaloosa, Alabama, TE108506-0.

The applicant requests authorization to take (capture, identify, photograph, collect tissue samples, salvage dead specimen, release) the following species: slender campeloma (Campeloma decampi), cylindrical lioplax (Lioplax cyclostomaformis), Tulotoma snail (Tulotoma magnifica), Anthony's riversnail (Athearnia anthonyi), Lacy Elimia (snail) (Elimia crenatella), painted rocksnail (Leptoxis taeniata), plicate rocksnail (Leptoxis plicata), round rocksnail (Leptoxis ampla), Tumbling Creek cavesnail (Antrobia culveri), flat pebblesnail (Lepyrium showalteri), royal marstonia (snail) (Pyrgulopsis ogmorhaphe), armored snail (Pyrgulopsis (=Marstonia) pachyta), painted snake coiled forest snail (Anguispira picta), noonday snail (Mesodon clarki nantahala), Magazine mountain shagreen (Mesodon magazinensis), Stock Island tree snail (Orthalicus reses), Cumberland elktoe (Alasmidonta atropurpurea), Appalachian elktoe (Alasmidonta raveneliana), fat three-ridge (mussel) (Amblema neislerii), Ouachita rock pocketbook (Arkansia wheeleri), birdwing pearlymussel (Conradilla caelata), fanshell (Cyprogenia stegaria), dromedary pearlymussel (Dromus dromas), shiny pigtoe (Fusconaia cor), finerayed pigtoe (Fusconaia cuneolus), Chipola slabshell (Elliptio chipolaensis), purple bankclimber (mussel) (Elliptoideus sloatianus), Cumberlandian combshell (Epioblasma brevidens), oyster mussel (Epioblasma capsaeformis), Yellow blossom (pearlymussel) (Epioblasma florentina florentina), Curtis pearlymussel (Epioblasma florentina curtisii), tan riffleshell (Epioblasma florentina walkeri), upland combshell (Epioblasma metastriata), Catspaw (=purple cat's paw pearlymussel) (Epioblasma obliquata obliquata), southern acornshell (Epioblasma othcaloogensis), southern combshell (Epioblasma (=Dysnomia) penita), green blossom (pearlymussel) (Epioblasma torulosa gubernaculum), Tuberoled blossom (pearlymussel) (Epioblasma torulosa torulosa), turgid blossom (pearlymussel) (Epioblasma turgidula), cracking pearlymussel (Hemistena lata), pink mucket (pearlymussel) (Lampsilis abrupta), fine-lined pocketbook (Lampsilis altilis), Higgins eye (Lampsilis higginsii), orange-nacre mucket (Lampsilis perovalis), Arkansas fatmucket (Lampsilis powelli), speckled pocketbook (Lampsilis streckeri), shinyrayed pocketbook (Lampsilis subangulata), Alabama lampmussel (Lampsilis virescens), Carolina heelsplitter (Lasmigona decorata), scaleshell mussel (Leptodea leptodon), Alabama moccasinshell (Medionidus acutissimus), Coosa moccasinshell (Medionidus parvulus), Gulf moccasinshell (Medionidus penicillatus), Ochlockonee moccasinshell (Medionidus simpsonianus), ring pink (mussel) (Obovaria retusa), little-wing pearlymussel (Pegias fabula), white wartyback (pearlymussel) (Plethobasus cicatricosus), orangefoot pimpleback (pearlymussel) (Plethobasus cooperianus), clubshell (Pleurobema clava), black clubshell (Pleurobema curtum), southern clubshell (Pleurobema decisum), dark pigtoe (Pleurobema furvum), southern pigtoe (Pleurobema georgianum), Cumberland pigtoe (Pleurobema gibberum), flat pigtoe (Pleurobema marshalli), ovate clubshell (Pleurobema perovatum), rough pigtoe (Pleurobema plenum), oval pigtoe (Pleurobema pyriforme), heavy pigtoe (Pleurobema taitianum), fat pocketbook (Potamilus capax), Alabama (=inflated) heelspitter (Potamilus inflatus), triangular kidneyshell (Ptychobranchus greenii), rough rabbitsfoot (Quadrula cylindrical strigillata), winged mapleleaf (mussel) (Quadrula fragosa), Cumberland monkeyface (pearlymussel) (Quadrula intermedia), Appalachian monkeyface (pearlymussel) (Quadrula sparsa), stirrupshell (Quadrula stapes), pale lilliput (pearlymussel) (Toxolasma cylindrellus), purple bean (Villosa perpurpurea), and Cumberland bean (pearlymussel) (Villosa trabalis). Take would occur while conducting presence/absence surveys and research studies. The proposed activities would occur in Alabama, Tennessee, Georgia, Florida, and Missouri.

Applicant: Thane R. Wibbels, University of Alabama at Birmingham, Birmingham, Alabama, TE108537-0.

The applicant requests authorization to take (collect and receive blood and tissue samples, place data loggers in nest, capture, identify, release) the Kemp's ridley (Lepidochelys kempii), loggerhead (Caretta caretta), green (Chelonia mydas), hawksbill (Eretmochelys imbricata), leatherback (Dermochelys coriacea), and olive ridley (Lepidochelys olivacea) sea turtles while conducting sex ratio and genetic analysis. The proposed activities would occur in Alabama and the Virgin Islands.

Applicant: Jess W. Jones, U.S. Fish and Wildlife Service, Department of Fisheries and Wildlife Services, Virginia Polytechnic Institute & State University, Blacksburg, Virginia, TE108813-0.

The applicant requests authorization to harass (collect, temporarily hold, translocate, release) oyster mussels (Epioblasma capsaeformis) while conducting restoration activities. The proposed activities would occur from the Tennessee section of the Clinch River upstream into the Virginia section of the river.

Applicant: Warren G. Montague, Ouachita National Forest, Waldon, Arkansas, TE108839-0.

The applicant requests authorization to take (collect non-viable eggs of) red-cockaded woodpeckers (Picoides borealis) while studying developmental analysis to determine fertility, while conducting genetic studies, and while conducting other applicable studies. The proposed activities would occur throughout the species' southern range.

Applicant: Ronald W. Rohrbaugh, Jr., Cornell Lab of Ornithology, Ithaca, New York, TE108852-0.

The applicant requests authorization to take (capture, identify, translocate, release, harass, inspect cavities of) Ivory-billed woodpeckers (Campephilus principalis) while conducting presence/absence studies and translocation activities and working to clearly document their existence and assess their ecology and behavior specific to the Mississippi delta region of eastern Arkansas. Presence/absence surveys would take place in North Carolina, South Carolina, Georgia, Florida, Alabama, Mississippi, Louisiana, Texas, Arkansas, Missouri, and Illinois.

Applicant: Richard Frederick Lance, U.S. Army Research & Development Center, Vicksburg, Mississippi, TE108962-0.

The applicant requests authorization to harass (capture, collect tissue samples, release) a maximum of 1,000 gray bats (Myotis grisescens) while conducting non-lethal tissue sampling, primarily wing punches, and some experimental sampling of genetic source material through the collection of scat and buccal (mouth) swabs while conducting genetic studies. The proposed activities would take place at the following locations: Jesse James Cave, Edmonson County, Kentucky; Fern Cave, Jackson County, Alabama; Cave Mountain Cave, Newton County, Arkansas; Pearson Cave, Hawkins County, Tennessee; Tobbaccoport Saltpeter Cave, Steward County, Tennessee; Hubbards Cave, Warren County, Tennessee; Coffin Cave, Laclede County, Missouri; and Chimney Cave, Shannon County, Missouri. The proposed activities for smaller maternity and hibernating colonies would occur in Pulaski, Laclede, Wright, Reynolds, Shannon, Oregon, Dallas, Hickory, Camden, and Miller Counties, Missouri.

Applicant: Ronald E. Spears, Asheville, North Carolina, TE108990-0.

The applicant requests authorization to take (capture, identify, examine, measure, photograph, release) the gray (Myotis grisescens) and the Indiana (Myotis sodalis) bats while conducting presence/absence surveys throughout the states of North Carolina, South Carolina, Georgia, Tennessee, Kentucky, Arkansas, Alabama, Mississippi, and South Carolina.

Dated: August 10, 2005.
Cynthia K. Dohner,
Acting Regional Director.

[FR Doc. 05-16983 Filed 8-25-05; 8:45 am]

BILLING CODE 4310-55-P